DEPARTMENT OF THE INTERIOR

National Park Service

[NPS-WASO-INED-15415; PPWOIEADC0, PPMVSIE1Y.YV0000]

Notice of Availability of Draft Director's Order #7 Concerning National Park Service Policies and Procedures Governing Its Volunteers-in-Parks Program

AGENCY: National Park Service, Interior.

ACTION: Notice of availability and request for comments.

SUMMARY: The National Park Service has prepared a Director's Order setting forth its policies and procedures governing the Volunteers-In-Parks program. When adopted, the policies and procedures will apply to all units of the national park system, and will supersede and replace the policies and procedures issued June 2005.

DATES: Written comments will be accepted until October 27, 2014.

ADDRESSES: Draft Director's Order #7: Volunteers-In-Parks is available online at: http://www.nps.gov/policy/Draft_DO7_2014.htm. Requests for written copies of, and submission of written comments on, Draft Director's Order #7 should be sent to Joy M. Pietschmann, Servicewide Volunteer Program Coordinator, National Park Service, 1849 C Street NW., Mail Stop 2820, Washington, DC 20005, or via email: joy_pietschmann@nps.gov.

FOR FURTHER INFORMATION CONTACT: Joy M. Pietschmann at (202) 513-7141 or via email at joy_pietschmann@nps.gov.

SUPPLEMENTARY INFORMATION: The NPS is updating its current system of internal written instructions. When these documents contain new policy or procedural requirements that may affect parties outside the NPS, they are first made available for public review and comment before being adopted. Director's Order #7 and a reference manual (subsequent to the Director's Order) will be issued. The draft Director's Order covers topics such as volunteer activities, management, uniforms, reimbursement, housing, use of personal equipment, and reporting requirements.

Public Availability of Comments: Please note that the comments submitted in response to this notice are a matter of public record. Before including your address, phone number, email address, or other personal identifying information in your comment, you should be aware that your entire comment—including your personal identifying information—may be made publicly available at any time. While you may ask us in your comment to withhold your personal identifying information from public review, we cannot guarantee that we will be able to do so.

Dated: August 28, 2014.
Julia Washburn,
Associate Director, Interpretation, Education, & Volunteers, National Park Service.

[FR Doc. 2014-22944 Filed 9-25-14; 8:45 am]

BILLING CODE 4310-EE-P